FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—10/01/2001
20012387 | Fortis (B) | Protective Life Corporation | Protective Life Insurance Company.
20012442 | Adventist Health System Sunbelt Healthcare Corporation | PorteCare Adventist Health System | PorteCare Adventist Health System.
20012444 | Constellation Brands, Inc | Derek Benham | Codera Production Group, LLC.
|  |  | Codera Wine Group, Inc
20012445 | BRL Hardy Ltd | Derek Benham | Coderal Production Group, LLC.
|  |  | Coderal Wine Group, Inc
20012449 | Constellation Brands, Inc. | Courtney Benham | Codera Production Group, LLC.
|  |  | Codera Wine Group, Inc
20012450 | BRL Hardy Ltd | Courtney Benham | Codera Production Group, LLC.
|  |  | Codera Wine Group, Inc.
20012461 | Hewlett-Packard Company | Indigo N.V | Indigo N.V.
TRANSACTIONS GRANTED EARLY TERMINATION—10/04/2001
20012303 | Trinity Industries, Inc | Thrall Car Management Company, Inc | Thrall Car Manufacturing Company.
20012304 | Thrall Car Management Company, Inc | Trinity Industries, Inc | Trinity Industries, Inc.
20012419 | Capital One Financial Corporation | PeopleFirst Inc | PeopleFirst Inc.
20012452 | NTELOS Inc | Conesoga Enterprises, Inc | Conestoga Enterprises, Inc.
TRANSACTIONS GRANTED EARLY TERMINATION—10/05/2001
20012405 | American Water Works Company, Inc | Enron Corp | Azurix Industries Corp.
|  |  | Azurix North America Corp.
20012406 | American Water Works Company, Inc | Marlin Water Trust | Azurix Industries Corp.
|  |  | Azurix North America Corp
20012447 | Joseph Littlejohn & Levy Fund III, L.P | LaQuinta Properties, Inc | Meditrust Healthcare Corporation.
20012465 | Warburg Pincus Private Equity VIII L.P | MSN Holdings, Inc | MSN Holdings, Inc.
20012470 | GS Capital Partners 2000, L.P. | Apple American Midwest, Inc. | Apply American Limited Partnership of Indiana.
|  |  | Apple American Limited Partnership of Ohio.
20012472 | Madison Dearborn Capital Partners IV, L.P | Focal Communications Corporation | Focal Communications Corporation.
20012483 | Verizon Communications Inc | Gregory A. Neely | Alabama Wireless, Inc.
TRANSACTIONS GRANTED EARLY TERMINATION—10/09/2001
20012404 | Fisher Scientific International Inc | Cole-Parmer Instrument Company | Cole-Parmer Instrument Company.
20020003 | Marriott International, Inc | Scottish Power plc | Birmingham Syn Fuel I, Inc.
|  |  | Birmingham SynFuel II, Inc.
|  |  | Brimingham SynFuel, LLC.
|  |  | PacificCorp Financial Services, Inc.
|  |  | PacificCorp SynFuel, LLC.
TRANSACTIONS GRANTED EARLY TERMINATION—10/10/2001
20012178 | Koninklijke Philips Electronics N.V | Marconi plc | Marconi Medical Systems, Inc.
20012460 | ESL Partners, L.P | AutoNation, Inc | AutoNation, Inc.
20012484 | Cadbury Schweppes plc | Pernod Ricard S.A | Yoo-Hoo Industries Inc.
TRANSACTIONS GRANTED EARLY TERMINATION—10/11/2001
20012468 | H&CB | Kookmin Bank | Kookmin Bank.
20012469 | Kookmin Bank | H&CB | H&CB
20012474 | Ivax Corporaiton | Elan Corporation plc | Elan Pharma International Limited.
20012477 | Warburg, Pincus Ventures, L.P | BEA Systems, Inc | BEA Systems, Inc.
TRANSACTIONS GRANTED EARLY TERMINATION—10/12/2001
20012437 | Deutsche Telekom AG | NTELOS Inc | NTELOS Acquisition Corp., Conestoga Wireless Company.
20012448 | CSR Limited | Cemex, S.A. de C.V | Cemex, S.A. de C.V.
20012451 | Curtiss-Wright Corporation | Lau Massachusetts Business Trust | Lau Defense Systems, LLC.
20012454 | Smithfield Foods, Inc | Packerland Holdings, Inc | Packerland Holdings, Inc.
20012482 | Tyco International Ltd | SBC Communications Inc | Alarm Holdings, Inc.
20020002 | AT&T Wireless Services, Inc | MetroPCS, Inc | GWI PCS8, Inc., PCS81, LLC.

FOR FURTHER INFORMATION CONTACT: Sandra M. Peay, or Parcellena P. Fielding, Contact Representatives. Federal Trade Commission, Permerger Notification Office, Bureau of Competition, Room 303, Washington, DC 20580, (202) 326-3100.

By Direction of the Commission.
Donald S. Clark,
Secretary.

[FR Doc. 01-28446 Filed 11-13-01; 8:45 am]

BILLING CODE 6750-01-M